DEPARTMENT OF COMMERCE

National Oceanic and Atmospheric Administration

[RTID 0648-XD592]

North Pacific Fishery Management Council; Public Meeting

AGENCY: National Marine Fisheries Service (NMFS), National Oceanic and Atmospheric Administration (NOAA), Commerce.

ACTION: Notice of webconference.

SUMMARY: The North Pacific Fishery Management Council (Council) Bering Sea Fishery Ecosystem Plan (BS FEP) Team will be held on January 9, 2024.

DATES: The meeting will be held on Tuesday, January 9, 2024, from 9:30 a.m. to 12:30 p.m., Alaska Time.

ADDRESSES: The meeting will be a webconference. Join online through the link at https://meetings.npfmc.org/Meeting/Details/3027.

Council address: North Pacific Fishery Management Council, 1007 W 3rd Ave., Suite 400, Anchorage, AK 99501-2252; telephone: (907) 271-2809. Instructions for attending the meeting are given under SUPPLEMENTARY INFORMATION below.

FOR FURTHER INFORMATION CONTACT: Diana Evans, Council staff; phone: (907) 271-2809 and email: diana.evans@noaa.gov. For technical support, please contact our administrative staff; email: npfmc.admin@noaa.gov.

SUPPLEMENTARY INFORMATION:

Agenda

Tuesday, January 9, 2024

The agenda will include: (a) recommend top 3-5 research priorities for Scientific and Statisical Committee; (b) discuss next steps for BS FEP team; and (c) other business. The agenda is subject to change, and the latest version will be posted at https://meetings.npfmc.org/Meeting/Details/3027 prior to the meeting, along with meeting materials.

Connection Information

You can attend the meeting online using a computer, tablet, or smart phone; or by phone only. Connection information will be posted online at: https://meetings.npfmc.org/Meeting/Details/3027.

Public Comment

Public comment letters will be accepted and should be submitted electronically to https://meetings.npfmc.org/Meeting/Details/3027.

Authority: 16 U.S.C. 1801 et seq.

Dated: December 18, 2023.
Rey Israel Marquez,
Acting Deputy Director, Office of Sustainable Fisheries, National Marine Fisheries Service.

[FR Doc. 2023-28216 Filed 12-21-23; 8:45 am]

BILLING CODE 3510-22-P